DEPARTMENT OF COMMERCE

International Trade Administration

Change in Deadline for Public Comments on U.S. Clean Technologies Export Competitiveness Strategy

AGENCY: International Trade Administration, Department of Commerce.

ACTION: Notice and request for public comments; extension of comment period.

SUMMARY: On August 30, 2021, the International Trade Administration (ITA) published in the Federal Register a request for public comment on clean technologies export competitiveness to inform efforts to develop a “U.S. Clean Technologies Export Competitiveness Strategy.” ITA has determined that an extension of the comment period until October 15, 2021, is appropriate. Comments previously submitted need not be resubmitted and will be fully considered.

DATES: The comment period for the notice published on August 30, 2021 (86 FR 48399), regarding the request for public comments on clean technologies export competitiveness, is extended from October 1, 2021, to October 15, 2021.

ADDRESSES: You may submit comments, identified by ITA-2021-0005, by either of the following methods:

• Online Submission (Strongly Preferred): Submit all electronic public comments via the Federal e-Rulemaking Portal. Go to https://www.regulations.gov and enter ITA-2021-0005 in the Search box. Click on the “Comment” icon, complete the required fields, and enter or attach your comments.

• Email: cleantech@trade.gov. Comments submitted by email should be machine-readable and should not be copy-protected.

Due to COVID-19 building closures, we are currently temporarily not accepting comments by mail. However, if you are unable to comment via regulations.gov, you may contact cleantech@trade.gov for instructions on submitting your comment.

FOR FURTHER INFORMATION CONTACT: Devin Horne, International Trade Administration, U.S. Department of Commerce, 1401 Constitution Avenue NW, Room 28018, Washington, DC 20230; telephone (202) 482-0775; email cleantech@trade.gov. Please direct media inquiries to ITA's Office of Public Affairs (202) 482-3809 or publicaffairs@trade.gov.

SUPPLEMENTARY INFORMATION: On August 30, 2021, the International Trade Administration (ITA) published in the Federal Register a request for public comment on clean technologies export competitiveness to inform efforts to develop a “U.S. Clean Technologies Export Competitiveness Strategy.” The request for public comment stated that the comment period would close on October 1, 2021. An extension of the comment period will provide additional opportunity for the public to prepare comments to address the questions posed by ITA. Therefore, ITA is extending the end of the comment period from October 1, 2021, to October 15, 2021. Comments previously submitted need not be resubmitted and will be fully considered.

Dated: September 28, 2021.
Man Cho,
Deputy Director, Office of Energy and Environmental Industries.

[FR Doc. 2021-21447 Filed 9-30-21; 8:45 am]

BILLING CODE 3510-DR-P